DEPARTMENT OF COMMERCE

National Institute of Standards and Technology

Proposed Information Collection; NIST Invention Disclosure and Inventor Information Collection

AGENCY: National Institute of Standards and Technology, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before October 7, 2019.

ADDRESSES: Direct all written comments to Elizabeth Reinhart, Management Analyst, National Institute of Standards and Technology, 100 Bureau Drive, Gaithersburg, MD 20889- 1710, (or via the internet at docpra@doc.gov).

FOR FURTHER INFORMATION CONTACT: Requests for additional information or copies of the information collection instrument and instructions should be directed to Technology Partnerships Office, 100 Bureau Ave. MS 2200, Gaithersburg, Maryland 301-975-2522, and donald.archer@nist.gov.

SUPPLEMENTARY INFORMATION:

I. Abstract

The NIST DN-45 Invention Disclosure Form is used to collect information pertaining to inventions created by Federal employees or by non-Federally employed individuals who have created an invention using NIST laboratory facilities as NIST Associates. The collection of this information is required to protect the United States rights to inventions created using Federal resources. The information collected on the form allows the Government to determine: (1) If an invention has been created; (2) the status of any statutory bar that pertains to the potential invention or that may pertain to the invention in the future. The information collected may allow the Government to begin a patent application process.

The Inventor Information Sheet is used to collect from individuals who have been named as potential inventors on a NIST Invention Disclosure Form. The collection of this information is used for multiple purposes:

(1) Some of the information may be required to file a patent application, if NIST seeks to protect a federally owned invention, pursuant to 35 U.S.C. 207.

(2) The form, in part, is a statement made by the respondent declaring whether the respondent considers herself/himself to be an inventor.

(3) Some of the information is needed for NIST to determine potential assignees with which NIST would potentially negotiate consolidation of rights and other patent related matters.

(4) Some of the information helps NIST determine under which statutory authority NIST may consolidate rights in an invention with other potential assignees.

(5) Country citizenship information is required to determine whether a Scientific and Technology agreement or treaty with the respondent's country may impact the U.S. Government's rights to the invention.

The information is collected by the Technology Partnerships Office and shared with the Office of Chief Counsel at NIST. The information may also be shared with non-Governmental entities that may have ownership rights to the potential invention. The Government collects this information to execute the policy and objective of the Congress expressed at 35 U.S.C. 200. 35 U.S.C. 207 authorizes Federal agencies to apply for, obtain, and maintain patents or other forms of protection . . . on inventions in which the Federal Government owns a right, title, or interest. 35 U.S.C. 207 also authorizes each Federal agency to undertake all other suitable and necessary steps to protect and administer rights to federally owned inventions on behalf of the Federal government. The information collected through the NIST DN-45 is necessary for NIST to execute the authority granted at 35 U.S.C. 207.

II. Method of Collection

Information is collected by completing the NIST DN-45 form which is a template created in Microsoft Word.

III. Data

OMB Control Number: New Collection 0693-XXXX.

Form Number(s): NIST DN-45.

Type of Review: Regular submission.

Affected Public: Individuals.

Estimated Number of Respondents: Invention Disclosure Form—10 per year. Inventor Information Form—100 per year.

Estimated Time per Response: Invention Disclosure Form: 3 hours. Inventor Information Form: 30 minutes.

Estimated Total Annual Burden Hours: Invention Disclosure Form: 30 hours. Inventor Information Form: 50 hours.

Estimated Total Annual Cost to Public: $500.

IV. Request for Comments

NIST invites comments on: (a) Whether the proposed collection of information is necessary for the proper performance of the functions of the agency, including whether the information will have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer, Commerce Department.

[FR Doc. 2019-16882 Filed 8-6-19; 8:45 am]

BILLING CODE 3510-13-P